NUCLEAR REGULATORY COMMISSION

[NRC-2008-0657]

Final Regulatory Guide: Issuance, Availability

AGENCY: Nuclear Regulatory Commission.

ACTION: Notice of Issuance and Availability of Regulatory Guide, RG 1.62.

FOR FURTHER INFORMATION CONTACT: Karl J. Sturzebecher, U.S. Nuclear Regulatory Commission, Washington, DC 20555-0001, telephone: (301) 251-7494 or e-mail to Karl.Sturzebecher@nrc.gov.

SUPPLEMENTARY INFORMATION:

I. Introduction

The U.S. Nuclear Regulatory Commission (NRC or Commission) is issuing a revision of a guide in the agency's “Regulatory Guide” series. This series was developed to describe and make available to the public information such as methods that are acceptable to the NRC staff for implementing specific parts of the agency's regulations, techniques that the staff uses in evaluating specific problems or postulated accidents, and data that the staff needs in its review of applications for permits and licenses.

Revision 1 of RG 1.62, “Manual Initiation of Protective Actions,” was issued with a temporary identification as Draft Regulatory Guide, DG-1190. This regulatory guide applies to operating power reactors licensed in accordance with title 10 of the Code of Federal Regulations part 50, “Domestic Licensing of Production and Utilization Facilities” (10 CFR part 50), and with 10 CFR part 52, “Licenses, Certifications, and Approvals for Nuclear Power Plants.” New applicants should consider this guidance in preparing an application for a combined license under 10 CFR part 52.

II. Further Information

In December, DG-1190 was published for public comment. The staff's responses to the public comments received are located in the NRC's Agencywide Documents Access and Management System under Accession Number ML092580016. The regulatory analysis may be found in ADAMS under Accession No. ML101540348. Electronic copies of RG 1.62 are available through the NRC's public Web site under “Regulatory Guides” at http://www.nrc.gov/reading-rm/doc-collections/.

In addition, regulatory guides are available for inspection at the NRC's Public Document Room (PDR) located at 11555 Rockville Pike, Rockville, Maryland. The PDR's mailing address is USNRC PDR, Washington, DC 20555-0001. The PDR can also be reached by telephone at (301) 415-4737 or (800) 397-4205, by fax at (301) 415-3548, and by e-mail to pdr.resource@nrc.gov.

Regulatory guides are not copyrighted, and Commission approval is not required to reproduce them.

Dated at Rockville, Maryland, this 17th day of June 2010.
For the Nuclear Regulatory Commission.
Andrea D. Valentin,
Chief, Regulatory Guide Development Branch, Division of Engineering, Office of Nuclear Regulatory Research.

[FR Doc. 2010-15592 Filed 6-25-10; 8:45 am]

BILLING CODE 7590-01-P